DEPARTMENT OF JUSTICE

Notice of Lodging of Proposed Consent Decree Under the Comprehensive Environmental Response, Compensation, and Liability Act, the Resource Conservation and Recovery Act, and the Clean Water Act

On July 18, 2013, the Department of Justice lodged a proposed Consent Decree with the United States District Court for the Southern District of Illinois in the lawsuit entitled United States v. Chemetco, Inc., Civil Action Nos. 00-670 and 00-677. The United States and the State of Illinois (the “State”) are plaintiffs in that consolidated environmental enforcement action concerning the Chemetco Superfund Site in Hartford, Illinois (the “Chemetco Site” or the “Site”). The United States and the State also are co-signatories to the proposed Consent Decree with the Chapter 7 Bankruptcy Estate of Chemetco, Inc. (the “Estate”), as represented by the Chapter 7 Trustee for the Estate, and Paradigm Minerals and Environmental Services LLC (“Paradigm”).

The proposed Consent Decree would regulate the sale and reprocessing of slag and other metal-bearing materials at the Chemetco Site under an Asset Purchase and Processing Agreement between the Estate and Paradigm (the “Processing Agreement”). Work under that Processing Agreement—which was approved by a set of Bankruptcy Court Orders—would decrease the volume of material that needs to be contained or remediated as a waste, thereby reducing the potential cost of any final remedy for the Chemetco Site under the Comprehensive Environmental Response, Compensation, and Liability Act. The Processing Agreement also requires that a fixed portion of the revenue from the reprocessing operation be deposited in a specially-established environmental escrow account and used for remediation of the Site. The Consent Decree would require that the work at the Site by Paradigm and the Estate conform to a detailed set of EPA-approved work plans appended to the Decree. The Decree also requires Paradigm to post financial assurance as backing for its commitment to assure the clean closure of the reprocessing area after its work is completed. All EPA costs of overseeing the sale and reprocessing activities would be reimbursed under the settlement.

In addition, the proposed Consent Decree would resolve claims against the Estate under the Resource Conservation and Recovery Act (“RCRA”) and the Clean Water Act in exchange for: (i) $471,000 to be transferred from a RCRA Financial Assurance Trust Fund established by Chemetco to a Superfund Special Account that can be used to fund cleanup work at the Site; (ii) a $500,000 allowed claim for civil penalties against the Estate; and (iii) conditions limiting the sale of a parking lot area that was created by filling a portion of a wetland with slag.

The publication of this notice opens a period for public comment on the proposed Consent Decree. Comments should be addressed to the Assistant Attorney General, Environment and Natural Resources Division, and should refer to United States v. Chemetco, Inc., D.J. Ref. No. 90-5-1-1-4516. All comments must be submitted no later than thirty (30) days after the publication date of this notice. Comments may be submitted either by email or by mail:

To submit comments: | Send them to:
By email | pubcomment-ees.enrd@usdoj.gov.
By mail | Assistant Attorney General U.S. DOJ-ENRD, P.O. Box 7611, Washington, DC 20044-7611.

The United States also intends to hold a public meeting on the proposed Consent Decree pursuant to section 7003(d) of RCRA. The meeting will be held at 6:30 p.m. on August 6, 2013, at the Hartford Community Center, located at 715 N. Delmar Avenue in Hartford, Illinois.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $147.25 (25 cents per page reproduction cost) payable to the United States Treasury. For a paper copy without the exhibits, the cost is $28.50.

Maureen Katz,
Assistant Section Chief, Environmental Enforcement Section, Environment and Natural Resources Division.

[FR Doc. 2013-17735 Filed 7-23-13; 8:45 am]

BILLING CODE 4410-15-P